DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 15, 2010.

Interested persons are invited to submit written comments regarding the subject matter of the investigations to the Director, Division of Trade Adjustment Assistance, at the address shown below, not later than March 15, 2010.

The petitions filed in this case are available for inspection at the Division of Trade Adjustment Assistance, Employment and Training Administration, U.S. Department of Labor, Room N-5428, 200 Constitution Avenue, NW., Washington, DC 20210.

Signed at Washington, DC, this 24th day of February 2010.
Elliott Kushner,
Certifying Officer, Division of Trade Adjustment Assistance.

Appendix
[TAA petitions instituted between 2/15/10 and 2/19/10]
TA-W | Subject firm (petitioners) | Location | Date of institution | Date of petition
73461 | Nationwide Insurance (Wkrs) | Columbus, OH | 02/16/10 | 02/10/10
73462 | Fantasy Activewear, Inc. (Wkrs) | Vernon, CA | 02/16/10 | 02/04/10
73463 | Work-Fit, Inc. (State) | Glastonbury, CT | 02/16/10 | 02/04/10
73464 | Landrex Technologies, Inc. (State) | Fremont, CA | 02/16/10 | 02/04/10
73465 | Techma USA, Inc. (Comp) | Gretna, VA | 02/16/10 | 02/03/10
73466 | Chart Energy and Chemical, Inc. (IAMAW) | La Crosse, WI | 02/16/10 | 01/29/10
73467 | ASTAR Air Cargo, Inc. (Union) | Florence, KY | 02/16/10 | 01/26/10
73468 | Emerson Network Power Energy Systems (Comp) | LaGrange, GA | 02/16/10 | 01/27/10
73469 | Springs Global US, Inc. (Comp) | Swannanoa, NC | 02/17/10 | 02/02/10
73470 | SYKES Enterprises, Inc. (State) | Vilton-Frewater, OR | 02/17/10 | 02/05/10
73471 | American Glass dba LE Smith Glass (Union) | Glenshaw, PA | 02/17/10 | 02/03/10
73472 | Porter's Wood Products, Inc. (Comp) | Voykins, VA | 02/17/10 | 02/12/10
73473 | Westar Transportation, Inc. (Wkrs) | Wichita Falls, TX | 02/17/10 | 02/03/10
73474 | Managed Business Solutions (State) | Santa Rosa, CA | 02/17/10 | 01/13/10
73475 | Springs Global US, Inc. (Comp) | Swannanoa, NC | 02/17/10 | 02/02/10
73476 | Corning Cable Systems (Comp) | Keller, TX | 02/17/10 | 02/10/10
73477 | International Game Technology (Comp) | Reno, NV | 02/17/10 | 02/05/10
73478 | Attachmate Corporation (State) | Seattle, WA | 02/17/10 | 01/27/10
73479 | Enesco, LLC (State) | Itasca, IL | 02/17/10 | 02/04/10
73480 | Stant Manufacturing, Inc. (Wkrs) | Connersville, IN | 02/17/10 | 01/21/10
73481 | Dish Network, LLC (Wkrs) | Mckeesport, PA | 02/17/10 | 02/08/10
73482 | Melina Healthcare of Ash (Wkrs) | Spokane, WA | 02/17/10 | 01/29/10
73483 | Insulet Corporation (State) | Bedford, MA | 02/17/10 | 02/08/10
73484 | Tomcar, Ltd. (Comp) | Rochester Hills, MI | 02/17/10 | 02/05/10
73485 | Bank of America (Wkrs) | Simi Valley, CA | 02/17/10 | 01/17/10
73486 | Ethan Allen Retail, Inc. (Comp) | Lombard, IL | 02/18/10 | 02/10/10
73487 | Sonnie's of St. Paul (State) | Woodbury, MN | 02/18/10 | 02/11/10
73488 | Electronic Data Systems (EDS) (Wkrs) | Milford, MI | 02/18/10 | 02/09/10
73489 | Sonoco RPC NA (USW) | Orrville, OH | 02/18/10 | 02/02/10
73490 | Owens Illinois (USW) | Charlotte, MI | 02/18/10 | 02/09/10
73491 | Farley's and Sathers Candy Company, Inc. (Comp) | Chattanooga, TN | 02/18/10 | 02/04/10
73492 | Avaya, Inc. (State) | Westminster, CO | 02/18/10 | 01/21/10
73493 | MEMC Electronic Materials, Inc. (Comp) | St. Peters, MO | 02/18/10 | 02/05/10
73494 | Air-Way Manufacturing Company (USW) | Olivet, MI | 02/18/10 | 02/09/10
73495 | Perkinelmer Health Sciences, Inc. (Wkrs) | Shelton, CT | 02/18/10 | 02/08/10
73496 | Guardian Automotive (Wkrs) | Lagrange, GA | 02/18/10 | 02/16/10
73497 | Aisin Manufacturing California, LLC (Comp) | Stockton, CA | 02/18/10 | 02/08/10
73498 | ADC Telecommunications (Comp) | Shakopee, MN | 02/18/10 | 02/08/10
73499 | Geocycle, LLC (Comp) | Dundee, MI | 02/18/10 | 01/13/10
73500 | Franklin Electric Company (State) | Siloam Springs, AR | 02/18/10 | 02/15/10
73501 | National Emblem, Inc. (State) | Carson, CA | 02/18/10 | 02/12/10
73502 | McFarland Logging (Comp) | Clinton, MT | 02/18/10 | 02/10/10
73503 | Canteen Vending (State) | Des Moines, IA | 02/18/10 | 02/10/10
73504 | Telscape Communication, Inc | Monrovia, CA | 02/18/10 | 02/16/10
73505 | Power Partners, Inc. (State) | Athens, GA | 02/18/10 | 02/11/10
73506 | Allstate (Lincoln Benefit Life) (Wkrs) | Lincoln, NE | 02/18/10 | 02/11/10
73507 | Inventurus Knowledge Solutions (Wkrs) | Indiana, PA | 02/19/10 | 02/05/10
73508 | Wausau Window and Wall Systems (Wkrs) | Wausau, WI | 02/19/10 | 02/05/10
73509 | The Liggett Corporation (Wkrs) | South Fulton, TN | 02/19/10 | 02/11/10
73510 | Liz Clairborne Jewelry Distribution Center (Union) | Lincoln, RI | 02/19/10 | 01/29/10
73511 | PTC Alliance (Wkrs) | Alliance, OH | 02/19/10 | 02/10/10
73512 | Glaxosmith-Kline (State) | Philadelphia, PA | 02/19/10 | 02/10/10
73513 | Farley's and Sathers Candy Company, Inc. (State) | Round Lake, MN | 02/19/10 | 02/17/10
73514 | E.W. Daniel, Company (Union) | Cleveland, OH | 02/19/10 | 02/11/10
73515 | Miniature Precision Components (MPC) (Wkrs) | Prairie Du Chien, WI | 02/19/10 | 01/15/10
73516 | Nifco America Corporation (Comp) | Cana Winchester, OH | 02/19/10 | 02/17/10
73517 | USA Mobility (Wkrs) | Plano, TX | 02/19/10 | 02/18/10
73518 | Airmate Company, Inc. (Comp) | Bryan, OH | 02/19/10 | 02/16/10
73519 | SY Probe, Inc. (Comp) | Gilbert, AZ | 02/19/10 | 02/16/10
73520 | Gildan Activewear, Inc. (Comp) | Martinsville, VA | 02/19/10 | 02/16/10
73521 | Citizens Cors Utility District (Compq) | Helenwood, TN | 02/19/10 | 02/17/10
73522 | Nortel (Wkrs) | Richardson, TX | 02/19/10 | 10/14/09

[FR Doc. 2010-4571 Filed 3-4-10; 8:45 am]

BILLING CODE 4510-FN-P